AGENCY FOR INTERNATIONAL DEVELOPMENT

30-Day Notice of Public Information Collections

AGENCY: U.S. Agency for International Development.

ACTION: Notice of public information collections.

SUMMARY: The U.S. Agency for International Development (USAID) seeks Office of Management and Budget (OMB) approval to continue the information collections described below. In accordance with the Paperwork Reduction Act for 1995, USAID requests public comment on these collections from all interested individuals and organizations.

DATES: All comments should be submitted within 30 calendar days from the date of this publication.

ADDRESSES: Written comments and recommendations for the proposed information collection should be sent within 30 days of publication of this notice to https://www.reginfo.gov/public/do/PRAMain. Find this particular information collection by selecting “Currently under 30-day Review—Open to Public Comments” or by using the search function.

FOR FURTHER INFORMATION CONTACT: Wayne Cohee, at (202) 916-2630 or via email at policymailbox@usaid.gov.

SUPPLEMENTARY INFORMATION: This proposed information collection was published in the Federal Register on February 22, 2022 at 87 FR 9563, allowing for a 60-day public comment period. Two comments were received during the 60-day public comment period. The first comment expressed support for the 60-day public comment period. The second comment expressed concerns about background checks and financial audits that are addressed within the standard provisions; thus, no changes are required to the standard provisions or the burden estimates. Both commenters were thanked for their input via email. The purpose of this notice is to allow an additional 30 days for public comment. Comments are requested concerning: (a) Whether the proposed collection of information is necessary for the proper performance of functions of the agency, including the practical utility of the information; (b) the accuracy of USAID's estimate of the burden of the proposed collection of information; (c) ways to enhance the quality, utility, and clarity of the information collected; and (d) ways to minimize the burden of the collection of information on respondents.

OMB No: 0412-0510 (expired).

Title of Information Collection: Applicant and Recipient Information Collected in Response to Standard Provisions in USAID Grants and Cooperative Agreements to Non-Governmental Organizations.

Type of Review: Reinstatement, with change, of a previously approved collection (OMB approval number 0412-0510) for which approval has expired.

Purpose: USAID is authorized to make grants to and enter cooperative agreements with Non-Governmental Organizations in or outside of the United States in furtherance of the purposes and within limitations of the Foreign Assistance Act (FAA). The information collection requirements placed on the public are published in Standard Provisions that are included, as required or as applicable, in Notices of Funding Opportunities to potential applicants and resulting awards to recipients. The pre-award requirements are based on a need for prudent management in the determination that an applicant either has or can obtain the ability to competently manage development assistance programs using public funds. The requirements for information collection during the post-award period are based on the need to prudently administer public funds.

Respondents: USAID grant and cooperative agreement applicants and recipients.

Estimated Number of Annual Responses: 1,210.

Estimated Number of Annual Burden Hours: 22,100.

Estimated Total Public Burden (in cost): $1,303,900.

These estimated totals were calculated using the below burden estimates per response for each of the named Standard Provisions, which are published internally in the Agency's Automated Directives System (ADS) Chapter 303 and included by Agreement Officers, as required or as applicable, in Notices of Funding Opportunities and resulting awards:

Accounting, Audit, and Records (MARCH 2021)—4 hours

Debarment, Suspension, and Other Responsibility Matters (JUNE 2012)—4 hours

Travel and International Air Transportation (DECEMBER 2014)—4 hours

Ocean Shipment of Goods (JUNE 2012)—4 hours

Trafficking in Persons (APRIL 2016)—8 hours

USAID Implementing Partner Notices (IPN) Portal for Assistance (JULY 2014)—4 hours

Mandatory Disclosures (NOVEMBER 2020)—40 hours

Conflict of Interest (AUGUST 2018)—8 hours

Negotiated Indirect Cost Rates—Predetermined (NOVEMBER 2020)—40 hours

Negotiated Indirect Cost Rates—Provisional (Nonprofit) (NOVEMBER 2020)—40 hours

Negotiated Indirect Cost Rate—Provisional (Profit) (DECEMBER 2014)—40 hours

Indirect Costs—Negotiated Indirect Cost Rate Agreement (NICRA) (NOVEMBER 2020)—40 hours

Fly America Act Restrictions (AUGUST 2013)—4 hours

Voluntary Population Planning Activities—Supplemental Requirements (JANUARY 2009)—8 hours

Title to and Care of Property (Cooperating Country Title) (NOVEMBER 1985)—16 hours

Investment Promotion (NOVEMBER 2003)—8 hours

Reporting Host Government Taxes (DECEMBER 2014)—8 hours

Cost Share (JUNE 2012)—24 hours

Protection of Human Research Subjects (JUNE 2012)—24 hours

Patent Reporting Procedures (NOVEMBER 2020)—16 hours

Luis Andres Rivera-Morales,
Acting Senior Procurement Executive.

[FR Doc. 2022-09598 Filed 5-4-22; 8:45 am]

BILLING CODE 6116-01-P